DEPARTMENT OF HEALTH AND HUMAN SERVICES

Centers for Disease Control and Prevention

[CDC-2014-0010, Docket Number NIOSH 063-C]

National Institute for Occupational Safety and Health Meeting

AGENCY: The National Institute for Occupational Safety and Health (NIOSH) of the Centers for Disease Control and Prevention (CDC), Department of Health and Human Services (HHS).

ACTION: Notice of public meeting and draft document for comment.

SUMMARY: The National Institute for Occupational Safety and Health (NIOSH) of the Centers for Disease Control and Prevention (CDC) announces the following web-based public meeting and request for public comment on the NIOSH Fire Fighter Fatality Investigation and Prevention Program (FFFIPP) and also announces the availability of a report entitled “NIOSH Fire Fighter Fatality Investigation and Prevention Program (FFFIPP) Progress Report and Proposed Future Directions—2014” which is now available for public comment. To view the notice and related materials, visit http://www.regulations.gov and enter CDC-2014-0010 in the search field and click “Search.”

DATES: Meeting date and time: August 20, 2014, 1:00 p.m.-4:00 p.m. EDT.

Public comment period: Comments must be received by 11:59 p.m. on October 20, 2014.

ADDRESSES: You may submit comments, identified by CDC-2014-0010 and Docket Number NIOSH 063-C, by either of the following two methods:

• Federal eRulemaking Portal: https://www.regulations.gov. Follow the instructions for submitting comments.

• Mail: National Institute for Occupational Safety and Health, NIOSH Docket Office, 1090 Tusculum Avenue, MS C-34, Cincinnati, Ohio 45226-1998.

Instructions: All information received in response to this notice must include the agency name and docket number (CDC-2014-0010; NIOSH 063-C). All relevant comments received will be posted without change to http://www.regulations.gov, including any personal information provided. All electronic comments should be formatted as Microsoft Word. Please make reference to CDC-2014-0010 and Docket Number NIOSH 063-C. All information received in response to this notice will also be available for public examination and copying at the NIOSH Docket Office, 1150 Tusculum Avenue, Room 109, Cincinnati, OH 45226-1998.

FOR FURTHER INFORMATION CONTACT: John Myers, Chief, Surveillance and Field Investigations Branch, Division of Safety Research, 304-285-5916 or jmyers@cdc.gov.

SUPPLEMENTARY INFORMATION: The purpose of this web-based meeting and docket is to request public comment on the NIOSH Fire Fighter Fatality Investigation and Prevention Program (FFFIPP) and report entitled “NIOSH Fire Fighter Fatality Investigation and Prevention Program (FFFIPP) Progress Report and Proposed Future Directions—2014.” NIOSH is especially interested in comments related to: current investigation priorities, final report format, information dissemination, follow-back evaluations for line-of-duty-death investigations, and the use of social media.

Background: In 2011, NIOSH requested public comment through the NIOSH Docket Office, NIOSH Docket 063-B. The input provided by stakeholders to the docket was valuable in providing insight into stakeholder needs and ways to improve the FFFIPP. A description of program changes resulting from these comments can be viewed at: http://www.cdc.gov/niosh/fire/future2011.html. The August 20, 2014 web-based meeting will be held to seek stakeholder input. A review of past and current FFFIPP publications and reports can be viewed by going to the NIOSH FFFIPP Web site: http://www.cdc.gov/niosh/fire.

The web-based meeting is open to the public using Audio/LiveMeeting Conferencing, limited only by the capacities of the conferencing format. Web-based meeting requirements include: a computer, internet connection, and telephone, preferably with mute capability. This web-based meeting will be available to participants on a first come, first served basis, and is limited to 100 participants. Therefore, specific information regarding meeting participation will only be provided to registered participants. Each participant is requested to register for the meeting by sending an email to MBowyer@cdc.gov by 5:00 p.m. EDT, August 6, 2014 containing the: participant's name, organization name, email address, and telephone number. NIOSH will reply by email confirming registration and the details needed to participate in the web-based meeting.

Format of the Meeting: A NIOSH official from the Division of Safety Research will provide opening remarks, followed by NIOSH presentations that will include an overview of the current FFFIPP program, strategic status, and proposed future directions. Representatives from stakeholder groups that have registered and requested to speak during the web-based meeting will be allowed 10 minutes to present on the usefulness of the FFFIPP and the program products for improving fire fighter safety and health, and suggestions for enhancing the impact and future directions of the program.

An opportunity to make oral presentations will also be provided to other interested organizations or individuals, given available time on the agenda. The time allotted for these presentations will be 5 minutes. Requests to make such presentations should be made by email to MBowyer@cdc.gov by 5:00 p.m. EDT, August 6, 2014. All requests to present should include the: participant's name, address, telephone number, and any relevant business affiliations of the presenter.

Upon receiving the requests for presentations, NIOSH will reply by email confirming registration for all participants, details needed to participate in the web-based meeting, and notify each registered presenter of the approximate time their presentation is scheduled to begin. If a presenter is not online when his/her presentation is scheduled to begin, the remaining participants will be heard in order. After the last scheduled presenter is heard, participants who missed their assigned times may be allowed to speak, limited by time available.

Registered meeting participants who wish to speak but did not submit a request for the opportunity to make a presentation may be given this opportunity after all of the scheduled speakers, limited by time available. An email box will be established during the web-based meeting so that participants may submit requests to speak, limited by time available.

Any registered presenters who wish to use slides must provide an electronic file in Microsoft PowerPoint to MBowyer@cdc.gov by 5:00 p.m. EDT, August 6, 2014. NIOSH will provide an approximate time for each registered presenter by email prior to the meeting.

Meeting Agenda

1:00 p.m.—NIOSH and Registered Stakeholder Presentations

2:30 p.m.—Other Registered Presenters

Open Mike (if time is available)

4:00 p.m.—Meeting Ends

Dated: June 26, 2014.
John Howard,
Director, National Institute for Occupational Safety and Health, Centers for Disease Control and Prevention.

[FR Doc. 2014-15693 Filed 7-2-14; 8:45 am]

BILLING CODE 4163-19-P